FEDERAL RESERVE SYSTEM

[Docket No. R-1125]

Privacy Act of 1974; Notice of New System of Records

AGENCY: Board of Governors of the Federal Reserve System.

ACTION: Notice of new system of records.

SUMMARY: In accordance with the Privacy Act, the Board of Governors of the Federal Reserve System (Board) is publishing notice of the establishment of a new system of records, entitled Visitor Log (BGFRS-32). We invite public comment on this new system of records.

DATES: Comment must be received on or before August 2, 2002.

ADDRESSES: Comments, which should refer to Docket No. R-1125, may be mailed to Ms. Jennifer J. Johnson, Secretary, Board of Governors of the Federal Reserve System, 20th Street and Constitution Avenue, NW., Washington, DC 20551 or mailed electronically to regs.comments@federalreserve.gov. Comments addressed to Ms. Johnson also may be delivered to the Board's mail room between 8:45 a.m. and 5:15 p.m. weekdays and to the security control room outside of those hours. The mail room and the security control room are accessible from the Eccles Building courtyard entrance, located on 20th Street between Constitution Avenue and C Street, NW. Comments may be inspected in Room MP-500 between 9 a.m. and 5 p.m. on weekdays pursuant to § 261.12, except as provided in § 261.14, of the Board's Rules Regarding Availability of Information, 12 CFR 261.12 and 261.14.

FOR FURTHER INFORMATION CONTACT: Elaine M. Boutilier, Managing Senior Counsel, Legal Division (202/452-2418), Board of Governors of the Federal Reserve System, 20th Street and Constitution Avenue, NW., Washington, DC 20551. For users of the Telecommunications Device for the Deaf (TDD) only, contract 202/263-4869.

SUPPLEMENTARY INFORMATION: In light of the heightened concerns regarding security of federal government personnel and buildings, the Board is implementing a procedure to screen visitors to the Board's premises before admission to those premises. To conduct this screening, the Board will request, in advance, that each visitor provide his or her name, date of birth, and social security number or passport number. Persons who refuse to provide the requested information may be denied admittance to the premises. This information will be used to facilitate searches of law enforcement databases to determine whether the visitor may present a risk to the security of the Board. As required by the General Records Schedule 18, published by the National Archives, the records will be retained for two years from date of admittance to the Board.

In accordance with 5 U.S.C. 552a(r), a report of this new system of records is being filed with the Chair of the House Committee on Government Reform and Oversight, the Chair of the Senate Committee on Governmental Affairs, and the Office of Management and Budget. This new system of records will become effective on August 12, 2002, without further notice, unless the Board publishes a notice to the contrary in the Federal Register.

BG FRS-32

System name: BGFRS-32 - Visitor Log

System location:

Board of Governors of the Federal Reserve System, 20th and Constitution, NW., Washington, DC 20551.

Categories of individuals covered by the system:

All visitors to the buildings maintained by the Board of Governors of the Federal Reserve System (“Board”).

Categories of records in the system:

Information concerning the identity of an individual who wishes to enter a building maintained by the Board. Such information will include the individual's name; social security number, passport number, or visa number; and date of birth. In addition, information derived from law enforcement data bases may be included in some records.

Authority for maintenance of the system:

12 U.S.C. 243

Purpose(s):

The purpose of this system of records is to permit the Board to provide for the security of its premises and the personnel in those premises by pre-screening visitors.

Routine uses of records maintained in the system, including categories of users and the purposes of such uses:

a. Disclosure to the Department of Justice and other Federal, state, and local governmental agencies having a prosecutive function for the use by attorneys, magistrates, and judges; and parole and probation authorities for the purpose of prosecuting, sentencing, and determining the parole and probation status of criminal offenders or suspected criminal offenders.

b. Disclosure to personnel of Federal, state, and local governmental agencies, and other government agencies, foreign or domestic, where such disclosures are considered reasonably necessary for the purpose of furthering efforts to determine the risk posed by an individual wishing to visit the Board.

c. Disclosure to personnel of Federal, state, and local law enforcement agencies and other governmental agencies, foreign or domestic, where there is a showing of a reasonable need to accomplish a valid enforcement purpose.

d. Disclosure to personnel of private institutions and to private individuals of identifying information pertaining to actual or suspected criminal offenders or other individuals wishing to visit the Board for the purpose of furthering efforts to evaluate the danger such individuals pose.

e. Disclosures in the course of presenting evidence to a court, magistrate or administrative tribunal and disclosures to opposing counsel in the course of discovery proceedings for the purpose of enforcing, or prosecuting, a violation or potential violation of law, whether civil, criminal or regulatory in nature and whether arising by general statue or particular program statue, or by regulation, rule or order issued pursuant thereto.

f. Disclosures and/or responses to Federal, state or local agencies maintaining civil, criminal or other relevant law enforcement information or other pertinent information, such as current licenses, if necessary to obtain information relevant to an agency decision concerning the hiring or retention of an employee, the issuance of a security clearance, the issuance of a contract, grant or other benefit, to the extent that the information is relevant and necessary to the requesting agency's decision on the matter.

g. Disclosure to the National Archives and Records Administration in connection with records management inspections and its role as Archivist.

h. Disclosure to contractors, grantees or volunteers performing or working on a contract, service, grant, cooperative agreement, or job for the Board.

Disclosure to consumer reporting agencies:

Not applicable.

Policies and practices for storing, retrieving, accessing, retaining, and disposing of records in the system:

Storage:Records are maintained in paper and electronic format.

Retrievability: Electronically-stored information may be retrieved based on name, social security number, passport or visa number, or date of birth.

Safeguards: Only authorized personnel will have access to this information. Access to information derived from law enforcement data bases will be extremely limited.

Retention and disposal: Information in this system of records will be destroyed two years after the date the individual is admitted to the Board's premises.

System manager(s) and address:

Billy Sauls, Chief of Uniform Security, Management Division, Board of Governors of the Federal Reserve System, 20th and Constitution Avenue, NW., Washington, DC 20551.

Notification procedure:

Inquiries should be sent to the Secretary of the Board, Board of Governors of the Federal Reserve System, 20th and Constitution Avenue, NW., Washington, DC 20551. The request should contain the individual's name, date of birth, Social Security or passport number, and approximate date of record.

Record access procedures:

Same as “Notification procedure” above.

Contesting record procedures:

Same as “Notification procedure” above.

Record source categories:

Information will be gathered primarily from the individual who wishes to enter the Board's premises. Additional information may be gathered from law enforcement data bases where appropriate.

Systems exempted from certain provisions of the act:

This system is exempt from 5 U.S.C. 552a(c)(3), (d), (e)(1), (e)(4)(G), (e)(4)(H), (e)(4)(I), and (f) of the Privacy Act pursuant to 5 U.S.C. 552a(k)(2).

By order of the Board of Governors of the Federal Reserve System, June 27, 2002.
Jennifer J. Johnson,
Secretary of the Board.

[FR Doc. 02-16724 Filed 7-2-02; 8:45 am]

BILLING CODE 6210-01-S